DEPARTMENT OF COMMERCE

National Oceanic and Atmospheric Administration

[RTID 0648-XE085]

South Atlantic Fishery Management Council (SAFMC); Public Meetings

AGENCY: National Marine Fisheries Service (NMFS), National Oceanic and Atmospheric Administration (NOAA), Commerce.

ACTION: Notice of public hearings.

SUMMARY: The South Atlantic Fishery Management Council (Council) will hold two virtual public hearings pertaining to Regulatory Amendment 36 to the Fishery Management Plan (FMP) for the Snapper Grouper Fishery of the South Atlantic Region. This amendment considers revisions to the recreational vessel limits for gag and black grouper and stowage requirements for black sea bass pots equipped with on-demand gear while transiting closed areas.

DATES: The public hearings will take place via webinar July 31 and August 1, 2024, beginning at 6 p.m., EDT. For specific dates and times, see SUPPLEMENTARY INFORMATION.

ADDRESSES: The hearings will be held via webinar. The webinar is open to members of the public. Information, including a link to webinar registration will be posted on the Council's website at: https://safmc.net/public-hearings-and-scoping/ when it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: A public hearing document, an online public comment form, and other materials will be posted to the Council's website at https://safmc.net/public-hearings-and-scoping/ as they become available. Written comments should be addressed to John Carmichael, Executive Director, SAFMC, 4055 Faber Place Drive, Suite 201, N Charleston, SC 29405. Written comments must be received by August 2, 2024, at 5 p.m. During the hearings, Council staff will provide an overview of actions being considered in the amendment. Staff will answer clarifying questions on the presented information and the proposed actions. Following the presentation and questions, the public will have the opportunity to provide comments on the amendment.

Regulatory Amendment 36 to the Snapper Grouper FMP

Amendment 53 to the Fishery Management Plan (FMP) for the Snapper Grouper Fishery of the South Atlantic Region (Snapper Grouper FMP) became effective October 23, 2023, and established recreational vessel limits of 2 fish per vessel per day or per trip (depending on private recreational or for-hire component) of gag and black grouper (2 fish limit for each species). The Council intended for these limits to instead be an aggregate limit of 2 gag or black grouper per vessel. Therefore, the Council is considering a revision of these recreational vessel limits through Regulatory Amendment 36.

Regulatory Amendment 36 also addresses stowage requirements for black sea bass pots equipped with on-demand (also known as `ropeless') gear while transiting closed areas. Other regulations for black sea bass pots were reviewed and were determined to not limit the fishery's ability to use pots equipped with on-demand gear in areas and times of year when pots are currently allowed. While transiting marine protected areas, special management zones, and spawning special management zones, black sea bass pots are required to be appropriately stowed, meaning they are not baited, and the buoy is not attached. Detaching and re-attaching the buoy is more difficult for pots with on-demand gear, due to the construction of on-demand retrieval mechanisms. Therefore, the Council is considering revision of the stowage requirements to better accommodate the transportation of this gear.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: July 2, 2024.
Rey Israel Marquez,
Acting Deputy Director, Office of Sustainable Fisheries, National Marine Fisheries Service.

[FR Doc. 2024-14928 Filed 7-5-24; 8:45 am]

BILLING CODE 3510-22-P